DEPARTMENT OF COMMERCE

International Trade Administration

[C-489-502]

Certain Welded Carbon Steel Pipes and Tubes From Turkey: Amended Final Results of Countervailing Duty Administrative Review, 2013

AGENCY: Enforcement and Compliance, International Trade Administration, U.S. Department of Commerce.

SUMMARY: The Department of Commerce (“Department”) is amending the Final Results ¹ of the administrative review of the countervailing duty order on certain welded carbon steel pipe and tube from Turkey to correct ministerial errors. The period of review (“POR”) is January 1, 2013, through December 31, 2013.

¹ See Circular Welded Carbon Steel Pipes and Tubes from Turkey: Final Results of Countervailing Duty Administrative Review; Calendar Year 2013 and Rescission of Countervailing Duty Administrative Review, in Part, 80 FR 61361 (Dep't Commerce Oct. 13, 2015) (“Final Results”), and accompanying Decision Memorandum for the Final Results of Countervailing Duty Administrative Review: Circular Welded Carbon Steel Pipes and Tubes from Turkey (Oct. 5, 2015).

DATES: Effective date: November 13, 2015

FOR FURTHER INFORMATION CONTACT: Jolanta Lawska, AD/CVD Operations, Office III, Enforcement and Compliance, International Trade Administration, U.S. Department of Commerce, 14th Street and Constitution Avenue NW., Washington DC 20230; telephone 202-482-8362.

SUPPLEMENTARY INFORMATION:

Background

On October 9, 2015, the Department disclosed to interested parties its calculations for the Final Results.² On October 13, 2015, we received a timely filed ministerial error allegation from Borusan Mannesmann Boru Sanayi ve Ticaret A.S. (BMB), Borusan Istikbal Ticaret T.A.S. (Istikbal), and Borusan Lojistik Dagitim Pepolama Tasimacilik ve Tic A.S. (Borusan Lojistik) (collectively, the Borusan Companies) regarding the Department's final margin calculations.³

² See Memorandum to Eric Greynolds, Program Manager, AD/CVD Operations, Office III from Jolanta Lawska, Case Analyst, AD/CVD Operations, Office III, “Final Calculations for the Borusan Group, Borusan Mannesmann Boru Sanayi ve Ticaret A.S. (BMB), and Borusan Istikbal Ticaret T.A.S. (Istikbal), (collectively, the Borusan Companies),” dated October 5, 2015 (“Final Results Calculations”).

³ See Letter from Borusan Companies, dated October 13, 2015.

Period of Review

The POR covered by this review is January 1, 2013, through December 31, 2013.

Scope of Order

The products covered by this order are certain welded carbon steel pipe and tube with an outside diameter of 0.375 inch or more, but not over 16 inches, of any wall thickness (pipe and tube) from Turkey. These products are currently classifiable under the Harmonized Tariff Schedule of the United States (HTSUS) subheadings as 7306.30.10, 7306.30.50, and 7306.90.10. Although the HTSUS subheadings are provided for convenience and customs purposes, the written description of the merchandise is dispositive.

Ministerial Errors

Section 751(h) of the Tariff Act of 1930, as amended (“the Act”), and 19 CFR 351.224(f) define a “ministerial error” as an error “in addition, subtraction, or other arithmetic function, clerical error resulting from inaccurate copying, duplication, or the like, and any similar type of unintentional error which the Secretary considers ministerial.” We analyzed the Borusan Companies' ministerial error comments and determined, in accordance with section 751(h) of the Act and 19 CFR 351.224(e), that there was a ministerial error in our calculation of the Borusan Companies net subsidy rate for the Final Results. For a complete discussion of the alleged error, see the Department's Ministerial Error Memorandum.⁴

⁴ See “2013 Certain Welded Carbon Steel Pipe and Tube from Turkey: Amended Final Results of Countervailing Duty Administrative Review, 2013: Final Results Ministerial Error Allegation” dated concurrently with this notice (“Ministerial Error Memorandum”).

In accordance with section 751(h) of the Act and 19 CFR 351.224(e), we are amending the Final Results. Specifically, we are amending the net subsidy rate for the Borusan Companies as well as the net subsidy rate for those companies that were not selected for individual examination, who were assigned the rate determined for the Borusan Companies.⁵ The revised net subsidy rates are detailed below.

⁵ See Final Results, 80 FR at 61362.

Amended Final Results

As a result of correcting for the ministerial error, we determine the following amended net subsidy rates for the period January 1, 2013, through December 31, 2013:

Company | Net subsidy rate (percent)
Borusan Group, Borusan Holding, A.S. (Borusan Holding), Borusan Mannesmann Boru Sanayi ve Ticaret A.S. (Borusan), Borusan Istikbal Ticaret T.A.S. (Istikbal), and Borusan Lojistik Dagitim Pepolama Tasimacilik ve Tic A.S. (Borusan Lojistik) (collectively, the Borusan Companies) | 0.88 ad valorem.
Umran Celik Born Sanayii A.S. (also known as Umran Steel Pipe Inc.) (Umran) | 0.88 ad valorem.
Guven Steel Pipe (also known as Guven Celik Born San. Ve Tic. Ltd.) (Guven) | 0.88 ad valorem.
Toscelik Profil ve Sac Endustrisi A.S. (Toscelik Profil), Toscelik Metal Ticaret AS., and Tosyali Dis Ticaret AS. (Tosyali) (collectively, the Toscelik Companies) | 0.88 ad valorem.

Assessment Rates/Cash Deposits

The Department intends to issue assessment instructions to CBP 15 days after the date of publication of these amended final results to liquidate shipments of subject merchandise produced and/or exported by respondents listed above entered, or withdrawn form warehouse, for consumption on or after January 1, 2013, through December 31, 2013.

Pursuant to section 751(a)(2)(C) of the Act, the Department also intends to instruct CBP to collect cash deposits of estimated countervailing duties, in the amounts shown above for each of the respective companies shown above, on shipments of subject merchandise entered, or withdrawn from warehouse, for consumption on or after October 13, 2015, the date of publication of the Final Results. For all non-reviewed firms, we will instruct CBP to continue to collect cash deposits at the most-recent company-specific or all-others rate applicable to the company, as appropriate. These cash deposit requirements, when imposed, shall remain in effect until further notice.

Administrative Protective Order

This notice also serves as a reminder to parties subject to administrative protective orders (“APO”) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

We will disclose the calculations performed for these amended final results to interested parties within five business days of the date of the publication of this notice in accordance with 19 CFR 351.224(b).

We are issuing and publishing this notice in accordance with sections 751(h) and 777(i)(1) of the Act and 19 CFR 351.224(e).

Dated: November 5, 2015.
Paul Piquado,
Assistant Secretary for Enforcement and Compliance.

[FR Doc. 2015-28887 Filed 11-12-15; 8:45 am]

BILLING CODE 3510-DS-P